DEPARTMENT OF TRANSPORTATION

Maritime Administration

[Docket No. MARAD-2014-0044]

Second National Maritime Strategy Symposium: Domestic Shipping Opportunities

AGENCY: Maritime Administration, Department of Transportation.

ACTION: Notice of solicitation for agenda topics for a public meeting.

SUMMARY: The Maritime Administration (MARAD) invites the public and other Marine Transportation System stakeholders to participate in a symposium to help develop a robust National Maritime Strategy. This second symposium will be conducted as part of a meeting of the Secretary of Transportation's maritime Federal advisory committee, the Marine Transportation System National Advisory Council (MTSNAC). The purpose of this second public meeting is to gather ideas for improving the utilization, vitality and competiveness of the Nation's marine transportation system by identifying and addressing domestic maritime opportunities.

DATES: The public meeting will be held from 9:00 a.m. to 4:30 p.m., Tuesday, May 6, 2014.

Key Date: The deadline to submit domestic maritime proposals and agenda topics for inclusion in the final agenda is 5:00 p.m. Friday April 25, 2014.

See Submitting Proposals and Agenda Topics below for specific directions.

The following are other important anticipated dates and deadlines:

Participant Registration opens (For attendance in person or listening-only by phone) | March 25, 2014.
Deadline to submit proposals and agenda topics for inclusion in the agenda | April 25, 2014.
Agenda to be released on MARAD Web site | April 28, 2014.
Deadline to register to attend the public meeting in person or listening-only by phone | May 2, 2014.
Call-in and listen-only information distributed to registrants | May 2, 2014.
Public Meeting | May 6—9:00 a.m.-4:30 p.m.

ADDRESSES: The public meeting will be held in the U.S. Department of Transportation (DOT) West Atrium, located on the ground floor of 1200 New Jersey Avenue SE., Washington, DC 20590. Overflow seating will be available in adjacent conference rooms.

FOR FURTHER INFORMATION CONTACT: Brian Blower, Advisor to the Executive Director, MAR-120, Maritime Administration, 1200 New Jersey Avenue SE., Washington, DC 20590; (202) 366-2765; email: Brian.Blower@dot.gov.

SUPPLEMENTARY INFORMATION:

Background

The Nation's Marine Transportation System (MTS) is a core component of the United States' economic and national security. While it has proven to be strong and resilient, the MTS faces many challenges to its future success. Among these challenges are aging infrastructure, declining public sector investment, landside congestion, increased environmental sensitivity, a projected 25 percent growth in population over the next 35 years, and general lack of awareness by the public and key policy makers of the importance of the MTS to the Nation's prosperity and security. These factors have a cumulative impact on U.S. deep water and inland ports, domestic cargo shipping (between U.S. ports in coastwise trade, on the Great Lakes and inland rivers and waterways, and between the mainland and non-contiguous U.S. territories), on U.S. shipyards, on off-shore energy development, and on the MTS' ability to meet environmental sustainability requirements. In January, MARAD hosted a multi-day public meeting focused on cargo opportunities and sealift capacity, with an overall objective of increasing the number of U.S.-flag ships operating in international trade. The purpose of the public MARAD/MTSNAC meeting in May is to identify domestic maritime opportunities that can be incorporated into a National Maritime Strategy to guide public and private Marine Transportation activities into the future. The results of this second symposium will be considered along with those from the January 2014 symposium to help shape the National Maritime Strategy being developed by MARAD. The principal focus areas will include the following:

1. All U.S. Ports, which includes the fifty States, District of Columbia, Guam, Puerto Rico, the Virgin Islands, American Samoa, Northern Mariana Islands, and any other territory or possession of the United States.

2. Domestic Shipping: All cargoes moving between U.S. ports and off-shore platforms by tugs and barges, ships, and other vessels along the coasts, between contiguous and non-contiguous U.S. ports, on inland rivers, waterways, and the Great Lakes.

3. U.S. Shipyards: Includes all aspects of the industrial base used in the construction, modification, repair, and disposal of cargo-carrying ships, tugs, towboats, and barges for domestic, off-shore, and international U.S. flag trade.

In addition, the following two cross-cutting themes will be addressed in the context of the above three areas:

1. Environmental Compliance and Maritime Energy Use: Compliance with existing and future environmental requirements, and the related topic of vessel energy use for propulsion and in-port electrical power.

2. Labor: All labor issues as they relate to the above three topic areas.

Suggestions from the public for proposals and agenda topics relating to the above domestic maritime topic areas are being solicited by the Maritime Administration for inclusion on the public meeting's agenda and may be submitted to MARAD docket number MARAD-2014-0044. The meeting agenda will be published on the MARAD Web site at a later date, after consideration of responses received in the docket.

Submitting Proposals and Agenda Topics

1. We have opened a docket at http://www.regulations.gov to allow for written submission of issues that you would like to see addressed during the symposium. Please indicate into which one of the three main focus areas (U.S. Ports, Domestic Shipping, U.S. Shipyards) or the two cross-cutting themes (environmental/energy or labor) into which your suggested topic(s) fall. Please provide a brief narrative explaining your proposal or agenda topic so we can fully understand the context and background.

2. You may submit your inputs identified by DOT Docket Number MARAD-2014-0044 by any of the following methods: Web site/Federal eRulemaking portal, fax, mail, or hand delivery. Please use only one of these means for each submission. All submissions must include the agency name and docket number for this matter. Specific instructions follow.

3. For the Web site/Federal eRulemaking portal, go to http://www.regulations.gov. Follow the instructions for submitting comments on the electronic docket site. To submit your input, type the docket number (MARAD-2014-0044) in the “SEARCH” box and click “SEARCH.” Click on “Submit a Comment” on the line associated with this Docket Number. If your submission is made online via www.regulations.gov, please note that inputs submitted to www.regulations.gov are not immediately posted to the site. It may take several business days before your submission will be posted on the electronic docket.

4. For submission by facsimile (FAX), transmit your agenda topic, comment or proposal to (202) 493-2251 and be sure to identify the submission by DOT Docket Number MARAD-2014-0044.

5. Submissions by mail or hand delivery should go to Docket Management Facility, U.S. Department of Transportation, 1200 New Jersey Avenue SE., West Building, Room W12-140, Washington, DC 20590, between 9:00 a.m. and 5:00 p.m., Monday through Friday, except on Federal holidays. If you submit your inputs by mail or hand delivery, submit them in an unbound format, no larger than 8½ by 11 inches, suitable for copying and electronic filing. If you submit comments by mail and would like to know that they reached the facility, please enclose a stamped, self-addressed postcard or envelope.

6. If you FAX, mail, or hand deliver your input we recommend that you include your name and a mailing address, an email address, or a telephone number in the body of your document so that we can contact you if we have questions regarding your submission.

7. Note: All submissions for this purpose, including any personal information provided, will be posted without change to http://www.regulations.gov.

8. For access to the docket to read background documents or inputs received, go to http://www.regulations.gov at any time or to Room W12-140 of the Department of Transportation, 1200 New Jersey Avenue SE., Washington, DC 20590, between 9:00 a.m. and 5:00 p.m., Monday through Friday, except Federal Holidays. To view the docket electronically at www.regulations.gov, type the docket number “MARAD-2014-0044” in the “SEARCH” box and click “Search.” Click and Open Docket Folder on the line associated with this rulemaking.

Anticipated Public Meeting Procedures

1. Additional coordinating instructions and registration details will be posted on the MARAD Web site http://www.MARAD.dot.gov by April 7, 2014.

2. The meeting is intended to collect public views and gather information to consider in developing a National Maritime Strategy. Therefore, the meeting will be conducted in an informal and non-adversarial manner.

3. The Maritime Administrator will preside over the public meeting. It will be conducted in concert with a MTSNAC meeting, which is subject to the Federal Advisory Committee Act (FACA). Senior Department and MARAD officials will also attend this meeting to receive comments from the public. During the meeting, we may ask questions that will clarify statements or gather more information or data to help us understand the issues raised by commenters.

5. The public meeting will be broadcast via live Web streaming by a link from http://www.MARAD.dot.gov and a listen-only telephone connection for which participants will need to register. Members of the public will be invited to make comments in person at the venue during a series of breakout sessions, through a call-in number, or by entry in the MARAD docket.

6. A transcript of the public meeting will be made available via our Web site at http://www.MARAD.dot.gov and posted to the docket at www.regulations.gov. The recorded webcast video will remain available following the meeting via a link from our Web site at www.MARAD.dot.gov.

Privacy Act Statement

Anyone is able to search all comments entered into any of our dockets by the name of the individual submitting the comment (or signing the comment, if submitted on behalf of an association, business, labor union, etc.). You may review DOT's complete Privacy Act Statement in the Federal Register published on April 11, 2000 (65 FR 19476, 04/11/2011) or at http://www.dot.gov/privacy.html.

Authority: 5 U.S.C. 610; E.O., 13563, 76 FR 3821, Jan. 21 2011; E.O. 12866, 58 FR 51735, Oct. 4, 1993.

* * *

Dated: March 18, 2014.
By Order of the Maritime Administrator.
Thomas M. Hudson,
Secretary, Maritime Administration.

[FR Doc. 2014-06307 Filed 3-21-14; 8:45 am]

BILLING CODE 4910-81-P